DEPARTMENT OF DEFENSE

Office of the Secretary

[Docket ID: DOD-2011-OS-0132]

Privacy Act of 1974; System of Records

AGENCY: Defense Logistics Agency, Department of Defense (DoD).

ACTION: Notice to Alter a System of Records.

SUMMARY: The Defense Logistics Agency is proposing to alter a system of records notice in its existing inventory of records systems subject to the Privacy Act of 1974, (5 U.S.C. 552a), as amended.

DATES: The changes will be effective on December 27, 2011 unless comments are received that would result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler, DLA/FOIA/Privacy Act Office, Headquarters, Defense Logistics Agency, ATTN: DGA, 8725 John J. Kingman Road, Suite 1644, Fort Belvoir, VA 22060-6221, or by phone at (703) 767-5045.

SUPPLEMENTARY INFORMATION: The Defense Logistics Agency's systems of records notices subject to the Privacy Act of 1974, (5 U.S.C. 552a), as amended, have been published in the Federal Register and are available from the address in FOR FURTHER INFORMATION CONTACT.

The proposed system reports, as required by 5 U.S.C. 552a(r), of the Privacy Act of 1974, as amended, were submitted on November 17, 2011 to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: November 18, 2011.
Aaron Siegel,
Alternate OSD Federal Register Liaison Officer, Department of Defense.

S170.80

System name:

DLA OGC Student Loan Repayment Program Records (July 20, 2009, 74 FR 35164).

Changes:

* * * * *

Purpose(s):

Revise entry by adding “employee” before “retention.”

Routine uses of records maintained in the system, including categories of users and the purposes of such uses:

Add a new routine use as follows: “Information is provided to financial lender institutions for the purpose of facilitating the student loan repayment under 5 U.S.C. 5379.”

* * * * *

Retention and disposal:

Delete entry and replace with “Records for which the employee has completed the service period specified in the service agreement and no disputes have arisen are destroyed 3 years after the end of the service period.

Records for which the service agreement has not been fulfilled, there are other disputes regarding the agreement or the loan payouts, or the agreement has become the subject of litigation are destroyed when agency counsel provides notice that all pending claims have been resolved, all litigation concluded, and any applicable period for seeking further review has elapsed, or 6 years from the date the facts giving rise to the dispute occurred, whichever is later.

Records for which debt collection is pursued against the employee for repayments made by the agency are destroyed when agency counsel provides notice that the debt is fully collected, compromised, or settled finally and any applicable period for seeking further review has elapsed.”

System manager(s) and address:

Delete entry and replace with “DLA Land and Maritime Chief Counsel, DLA Land and Maritime, P.O. Box 3990, Columbus, OH 43218-3990.”

Notification procedure:

Delete entry and replace with “Individuals seeking to determine whether information about themselves is contained in this system should address written inquiries to the DLA FOIA/Privacy Act Office, Headquarters, Defense Logistics Agency, ATTN: DGA, 8725 John J. Kingman Road, Suite 1644, Fort Belvoir, VA 22060-6221. Inquiry should contain the individual's full name, current address, and telephone number.”

Record access procedures:

Delete entry and replace with “Individuals seeking access to information about themselves contained in this system should address written inquiries to the DLA FOIA/Privacy Act Office, Headquarters, Defense Logistics Agency, ATTN: DGA, 8725 John J. Kingman Road, Suite 1644, Fort Belvoir, VA 22060-6221. Inquiry should contain the individual's full name, current address, and telephone number.”

Contesting record procedures:

Delete entry and replace with “The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.”

* * * * *

S170.80

System name:

DLA OGC Student Loan Repayment Program Records.

System location:

Records will be maintained in Defense Logistics Agency Offices of Counsel. Addresses may be obtained from the System Manager below.

Categories of individuals covered by the system:

Current DLA Office of General Counsel (OGC) employees participating in the DLA OGC Student Loan Repayment Program.

Categories of records in the system:

Individual's name and Social Security Number (SSN); qualifying student loan name, amount, date, number, lender's name, address and tax identification number, servicing office's name, address and tax identification number and verification; recommendation for participation; and employee service agreement.

Authority for maintenance of the system:

5 U.S.C. 301, Departmental Regulations; 5 U.S.C. 5379, Student Loan Repayments; and E.O. 9397 (SSN), as amended.

Purpose(s):

Information will be used as an employee retention incentive for DLA OGC attorneys.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

Information is provided to the Office of Personnel Management to meet statutory reporting requirements. Data provided does not include personal identifiers.

Information is provided to financial lender institutions for the purpose of facilitating the student loan repayment under 5 U.S.C. 5379.

The DoD “Blanket Routine Uses” also apply to this system of records.

Policies and practices for storing, retrieving, accessing, retaining, and disposing of records in the system:

Storage:

Records may be stored on paper.

Retrievability:

Records are retrieved by the individual's name.

Safeguards:

Access to records is restricted to those users who have an official need-to-know in the performance of their duties for the Program. All users are required to have taken Information Assurance and Privacy training annually. Records are secured in locked or guarded buildings, locked offices, or locked cabinets during non-duty hours.

Retention and disposal:

Records for which the employee has completed the service period specified in the service agreement and no disputes have arisen are destroyed 3 years after the end of the service period.

Records for which the service agreement has not been fulfilled, there are other disputes regarding the agreement or the loan payouts, or the agreement has become the subject of litigation are destroyed when agency counsel provides notice that all pending claims have been resolved, all litigation concluded, and any applicable period for seeking further review has elapsed, or 6 years from the date the facts giving rise to the dispute occurred, whichever is later.

Records for which debt collection is pursued against the employee for repayments made by the agency are destroyed when agency counsel provides notice that the debt is fully collected, compromised, or settled finally and any applicable period for seeking further review has elapsed.

System manager(s) and address:

DLA Land and Maritime Chief Counsel, DLA Land and Maritime, P.O. Box 3990, Columbus, OH 43218-3990.

Notification procedure:

Individuals seeking to determine whether information about themselves is contained in this system should address written inquiries to the DLA FOIA/Privacy Act Office, Headquarters, Defense Logistics Agency, ATTN: DGA, 8725 John J. Kingman Road, Suite 1644, Fort Belvoir, VA 22060-6221.

Inquiry should contain the individual's full name, current address, and telephone number.

Record access procedures:

Individuals seeking access to information about themselves contained in this system should address written inquiries to the DLA FOIA/Privacy Act Office, Headquarters, Defense Logistics Agency, ATTN: DGA, 8725 John J. Kingman Road, Suite 1644, Fort Belvoir, VA 22060-6221.

Inquiry should contain the individual's full name, current address, and telephone number.

Contesting record procedures:

The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.

Record source categories:

Subject individual and lender institution.

Exemptions claimed for the system:

None.

[FR Doc. 2011-30320 Filed 11-23-11; 8:45 am]

BILLING CODE 5001-06-P